DEPARTMENT OF COMMERCE

International Trade Administration

[A-570-135]

Certain Chassis and Subassemblies Thereof From the People's Republic of China: Postponement of Preliminary Determination in the Less-Than-Fair-Value Investigation

AGENCY: Enforcement and Compliance, International Trade Administration, Department of Commerce.

DATES: Applicable October 29, 2020.

FOR FURTHER INFORMATION CONTACT: Hermes Pinilla at (202) 482-3477 or Jason Willoughby at (202) 482-5509, AD/CVD Operations, Enforcement and Compliance, International Trade Administration, U.S. Department of Commerce, 1401 Constitution Avenue NW, Washington, DC 20230.

SUPPLEMENTARY INFORMATION:

Background

On August 19, 2020, the Department of Commerce (Commerce) initiated a less-than-fair-value (LTFV) investigation of imports of certain chassis and subassemblies thereof (chassis) from the People's Republic of China.¹ Currently, the deadline for the preliminary determination is January 6, 2021.

¹ See Certain Chassis and Subassemblies Thereof from the People's Republic of China: Initiation of Less-Than-Fair-Value Investigation, 85 FR 52552 (August 26, 2020).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 17, 2020, the petitioner ² submitted a timely request that Commerce postpone the preliminary determination in this LTFV investigation.³ The petitioner stated that it requests postponement in order to collect the necessary information for determining the most accurate possible dumping margins, and that Commerce will need additional time to fully review questionnaire responses and issue supplementary questionnaire responses.⁴ Additionally, Commerce granted the petitioner's September 4, 2020, request ⁵ that Commerce issue additional quantity and value questionnaires to Chinese producers of in-scope merchandise. The petitioner claims that additional time will be necessary for Commerce to issue these additional questionnaires and follow up on any responses. The petitioner requests that Commerce fully extend the preliminary determination by 50 days.

² The petitioner is the Coalition of American Chassis Manufacturers.

³ See Petitioner's Letter, “Certain Chassis and Subassemblies Thereof from the People's Republic of China: Request for Postponement of Preliminary Determination,” dated September 17, 2020.

⁴ Id.

⁵ See Petitioner's Letter, “Certain Chassis and Subassemblies Thereof from the People's Republic of China: Request for Additional Quantity and Value Questionnaires,” dated September 4, 2020.

For the reasons stated above and because there are no compelling reasons to deny the request, Commerce, in accordance with section 733(c)(1)(A) of the Act and 19 CFR 351.205(e), is postponing the deadline for the preliminary determination by 50 days (i.e., 190 days after the date on which the investigation was initiated). As a result, Commerce will issue its preliminary determination no later than February 25, 2021. In accordance with section 735(a)(1) of the Act and 19 CFR 351.210(b)(1), the deadline for the final determination in this investigation will continue to be 75 days after the date of the preliminary determination, unless postponed at a later date.

This notice is issued and published pursuant to section 733(c)(2) of the Act and 19 CFR 351.205(f)(1).

Dated: October 20, 2020.
Jeffrey I. Kessler,
Assistant Secretary for Enforcement and Compliance.

[FR Doc. 2020-23972 Filed 10-28-20; 8:45 am]

BILLING CODE 3510-DS-P